DEPARTMENT OF COMMERCE

International Trade Administration

[A-821-817]

Silicon Metal From the Russian Federation: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on silicon metal from the Russian Federation would likely lead to the continuation or recurrence of dumping and material injury to an industry in the United States, Commerce is publishing a notice of continuation of this AD order.

DATES: Applicable January 2, 2026.

FOR FURTHER INFORMATION CONTACT: Kamila Khamidova, Trade Agreements Policy and Negotiations, Enforcement and Compliance, International Trade Administration, U.S. Department of Commerce, 1401 Constitution Avenue NW, Washington, DC 20230; telephone: (202) 482-8051.

SUPPLEMENTARY INFORMATION:

Background

On March 26, 2003, Commerce published in the Federal Register the AD order on silicon metal from the Russian Federation.¹ On May 1, 2025, the ITC instituted,² and Commerce initiated,³ the fourth sunset review of the Order, pursuant to section 751(c) of the Tariff Act of 1930, as amended (the Act). As a result of its review, Commerce determined that revocation of the Order would likely lead to the continuation or recurrence of dumping, and therefore, notified the ITC of the magnitude of the margins of dumping likely to prevail should the Order be revoked.⁴

¹ See Antidumping Duty Order: Silicon Metal from Russia, 68 FR 14578 (March 26, 2003) (Order).

² See Silicon Metal from Russia; Institution of a Five-Year Review, 90 FR 18701 (May 1, 2025).

³ See Initiation of Five-Year (Sunset) Reviews, 90 FR 18642 (May 1, 2025).

⁴ See Silicon Metal from the Russian Federation: Final Results of the Expedited Fourth Sunset Review of the Antidumping Duty Order, 90 FR 42218 (August 29, 2025), and accompanying Issues and Decision Memorandum (IDM).

On January 2, 2026, the ITC published its determination, pursuant to sections 751(c) and 752(a) of the Act, that revocation of the Order would likely lead to continuation or recurrence of material injury to an industry in the United States within a reasonably foreseeable time.⁵

⁵ See Silicon Metal from Russia; Determination, 91 FR 154 (January 2, 2026) (ITC Final Determination).

Scope of the Order

For purposes of this Order, the product covered is silicon metal, which generally contains at least 96.00 percent but less than 99.99 percent silicon by weight. The merchandise covered by this Order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). This Order covers all silicon metal meeting the above specification, regardless of tariff classification.

Continuation of the Order

As a result of the determinations by Commerce and the ITC that revocation of the Order would likely lead to continuation or recurrence of dumping, countervailable subsidies, and material injury to an industry in the United States, pursuant to section 751(d)(2) of the Act, Commerce hereby orders the continuation of the Order. U.S. Customs and Border Protection will continue to collect AD cash deposits at the rates in effect at the time of entry for all imports of subject merchandise.

The effective date of the continuation of the Order will be January 2, 2026.⁶ Pursuant to section 751(c)(2) of the Act and 19 CFR 351.218(c)(2), Commerce intends to initiate the next five-year reviews of the Order not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year (sunset) review and this notice are in accordance with sections 751(c) and 751(d)(2) of the Act and published in accordance with section 777(i) of the Act, and 19 CFR 351.218(f)(4).

Dated: January 12, 2026.
/S/Christopher Abbott
Christopher Abbott,
Deputy Assistant Secretary for Policy and Negotiations, performing the non-exclusive functions and duties of the Assistant Secretary for Enforcement and Compliance.

[FR Doc. 2026-00741 Filed 1-14-26; 8:45 am]

BILLING CODE 3510-DS-P